DEPARTMENT OF TRANSPORTATION

National Highway Traffic Safety Administration

[Docket No. NHTSA-2015-0106, Notice 2]

Decision That Nonconforming Model Year 2008-2010 Alfa Romeo 8C Spider Passenger Cars Are Eligible for Importation

AGENCY: National Highway Traffic Safety Administration (NHTSA), Department of Transportation (DOT).

ACTION: Grant of petition.

SUMMARY: This document announces a decision by the National Highway Traffic Safety Administration that certain Model Year (MY) 2008-2010 Alfa Romeo 8C Spider passenger cars (PCs) that were not originally manufactured to comply with all applicable Federal Motor Vehicle Safety Standards (FMVSS) are eligible for importation into the United States because the 2008 and 2009 model year vehicles are substantially similar to vehicles that were originally manufactured for importation into and sale in the United States and certified to all applicable FMVSS (the U.S-certified version of the 2008-2009 Alfa Romeo 8C Spider PCs), and, in the case of the 2010 model year vehicles, because those vehicles have safety features that comply with, or are capable of being altered to comply with, all applicable FMVSS.

DATES: This decision became effective on March 10, 2016.

ADDRESSES: For further information contact George Stevens, Office of Vehicle Safety Compliance, NHTSA (202-366-5308).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Under 49 U.S.C 30141(a)(1)(B), a motor vehicle that was not originally manufactured to conform to all applicable FMVSS shall be refused admission into the United States unless NHTSA has decided its safety features comply with, or are capable of being altered to comply with, all applicable FMVSS based on destructive test data or such other evidence that NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Wallace Environmental Testing Laboratories (WETL), Inc. of Houston, Texas (Registered Importer R-90-005), petitioned NHTSA to decide whether MY 2008-2010 Alfa Romeo 8C Spider PCs are eligible for importation into the United States. NHTSA published a notice of the petition on January 22, 2016 (81 FR 3859) to afford an opportunity for public comment. No comments were received in response to this notice. The reader is referred to the notice for a thorough description of the petition.

NHTSA Conclusions

In its petition, WETL noted that the original manufacturer, Alfa Romeo, certified the MY 2008 and 2009 8C Spider PCs to all applicable FMVSS and offered those vehicles for sale in the United States. WETL also contends that the non-U.S certified MY 2010 Alfa Romeo 8C Spider PC shares the same platform with the U.S.-certified MY 2008 and 2009 Alfa Romeo 8C Spider PC, and on that basis compares the non-U.S. certified model to those vehicles to establish its conformity with many applicable FMVSS. Because there is no U.S.-certified counterpart for the MY 2010 Alfa Romeo 8C Spider PC, the petitioner acknowledged that it could not base its petition solely on the substantial similarity of those vehicles to the U.S.-certified MY 2008 and 2009 Alfa Romeo 8C Spider PC. Instead, the petitioner chose to establish import eligibility on the basis that the vehicles have safety features that comply with, or are capable of being modified to comply with, the FMVSS based on destructive test data or such other evidence that NHTSA decides to be adequate as set forth in 49 U.S.C. 30141(a)(1)(B). Nevertheless, the petitioner contends that the non-U.S. certified MY 2010 Alfa Romeo 8C Spider PCs use the same components as the U.S.-certified MY 2008 and 2009 Alfa Romeo 8C Spider PCs in virtually all of the systems subject to applicable FMVSS.

NHTSA has reviewed the petition and has concluded that the nonconforming versions of the MY 2008 and 2009 Alfa Romeo 8C Spider PCs described in the petition are substantially similar to the U.S.-certified versions of the MY 2008 and 2009 Alfa Romeo 8C Spider PCs and are capable of being readily altered to comply with all applicable FMVSS. NHTSA has also concluded that the nonconforming versions of the MY 2010 Alfa Romeo 8C Spider PCs described in the petition are comparable to the nonconforming versions of the MY 2008 and 2009 Alfa Romeo 8C Spider PCs with respect to all applicable FMVSS.

NHTSA has also determined that any RI who imports or modifies one of these vehicles must include in the statement of conformity and associated documents (referred to as a “conformity package”) it submits to NHTSA under 49 CFR 592.6(d) additional specific proof to confirm that the vehicle was manufactured to conform to, or was successfully altered to conform to, FMVSS No. 138 Tire Pressure Monitoring Systems and FMVSS No. 208 Occupant Protection. This proof must include detailed descriptions of all modifications made to achieve conformity with those standards, including a detailed description of systems in place (if any) on the vehicle at the time it was delivered to the RI and a similarly detailed description of the systems in place after the vehicle is altered, including photographs of all required labeling. The description must also include parts assembly diagrams and associated part numbers for all components that were removed from or installed on the vehicle, a description of how any computer programming changes were completed, and a description of how compliance was verified after alterations were completed. Photographs (e.g., monitor print screen captures) or report printouts, as practicable, must be submitted as proof that any computer reprogramming was carried out successfully.

In addition to the information specified above, each conformity package must also include evidence showing how the RI verified that any changes it made in loading or reprograming vehicle software to achieve conformity with each separate FMVSS did not cause the vehicle to fall out of compliance with any other applicable FMVSS.

Decision

Accordingly, on the basis of the foregoing, NHTSA hereby decides that MY 2010 Alfa Romeo 8C Spider passenger cars that were not originally manufactured to comply with all applicable FMVSS, are capable of being altered to conform to all applicable FMVSS.

NHTSA also hereby decides that MY 2008 and 2009 Alfa Romeo 8C Spider passenger cars that were not originally manufactured to comply with all applicable FMVSS, are capable of being readily altered to conform to all applicable FMVSS.

Vehicle Eligibility Number for Subject Vehicles

The importer of a vehicle admissible under any final decision must indicate on the form HS-7 accompanying entry the appropriate vehicle eligibility number indicating that the vehicle is eligible for entry. VSP-580 is the vehicle eligibility number assigned to MY 2008 and 2009 Alfa Romeo 8C Spider passenger cars and VCP-61 is assigned to MY 2010 Alfa Romeo 8C Spider passenger cars admissible under this notice of final decision.

Authority: (49 U.S.C. 30118, 30120: delegations of authority at 49 CFR 1.95 and 501.8)

Jeffrey M. Giuseppe,
Director, Office of Vehicle Safety Compliance.

[FR Doc. 2016-05843 Filed 3-15-16; 8:45 am]

BILLING CODE 4910-59-P